DEPARTMENT OF ENERGY

Federal Energy Regulatory Commission

Project No. 2101-084 (California); Project No. 2155-024 (California)

Sacramento Municipal Utility District; Pacific Gas & Electric Company; Notice of Availability of the Draft Environmental Impact Statement for the Upper American River Project and the Chili Bar Project

September 21, 2007.

In accordance with the National Environmental Policy Act of 1969 and the Federal Energy Regulatory Commission's (Commission) regulations, 18 CFR part 380 (Order No. 486, 52 F.R. 47897), the Office of Energy Projects has reviewed the applications for relicense for the Upper American River Project (FERC No. 2101) and the Chili Bar Project (FERC No. 2155), located on the South Fork of the American River near Placerville, California, and has prepared a Draft Environmental Impact Statement (draft EIS) for the projects.

The existing 688-megawatt (MW) Upper American River Project occupies 6,375 acres of federal land administered by the U.S. Department of Agriculture, Forest Service (Forest Service), in Eldorado National Forest and 42.3 acres of federal land administered by the U.S. Department of the Interior, Bureau of Land Management (BLM). The Forest Service is reviewing an application for a special use permit for constructing the Iowa Hill development on National Forest System lands. The Forest Service is also a cooperating agency in preparing this draft EIS for the Upper American River Project.

Pacific Gas & Electric Company's 7-MW Chili Bar Project is located on the South Fork of the American River immediately downstream of the Upper American River Project. The project occupies 47.81 acres of federal land administered by the BLM.

In the draft EIS, staff evaluates the applicant's proposal and alternatives for relicensing the projects. The draft EIS documents the views of governmental agencies, non-governmental organizations, affected Indian tribes, the public, the license applicant, and Commission staff.

Comments should be filed with: Kimberly D. Bose, Secretary, Federal Energy Regulatory Commission, 888 First Street, NE., Washington, DC, 20426. All comments must be filed within 45 days of the notice in the Federal Register, and should reference either Project No. 2101-084 (Upper American River Project) or Project No. 2155-024 (Chili Bar Project). Comments may be filed electronically via the Internet in lieu of paper. The Commission strongly encourages electronic filings. See 18 CFR 385.2001(a)(1)(iii) and instructions on the Commission's Web site at http://www.ferc.gov under the eLibrary link.

Anyone may intervene in this proceeding based on this draft EIS (18 CFR 380.10). You may also file your request to intervene electronically. You do not need intervenor status to have the Commission consider your comments.

Copies of the draft EIS are available for review in the Commission's Public Reference Branch, Room 2A, located at 888 First Street, NE., Washington, DC 20426. The draft EIS also may be viewed on the Internet at http://www.ferc.gov under the eLibrary link. Enter the docket number (either P-2101or P-2155) to access the document. For assistance, contact FERC Online Support at FERCOnlineSupport@ferc.gov or toll-free at 1-866-208-3676, or for TTY, (202) 502-8659.

CD versions of the draft EIS have been mailed to everone on the mailing list for the projects. Copies of the CD, as well as a limited number of paper copies, are available from the Public Reference Room identified above.

You may also register online at http://www.ferc.gov/docs-filing/esubscription.asp to be notified via e-mail of new filings and issuances related to these or other pending projects. For assistance, contact FERC Online Support.

For further information, contact James Fargo at (202) 502-6095 or at james.fargo@ferc.gov.

Kimberly D. Bose,
Secretary.

[FR Doc. E7-19188 Filed 9-27-07; 8:45 am]

BILLING CODE 6717-01-P